DEPARTMENT OF COMMERCE

Census Bureau

Agency Information Collection Activities; Submission to the Office of Management and Budget (OMB) for Review and Approval; Comment Request; Building Permits Survey Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 1, 2023 during a 60-day comment period. This notice allows for an additional 30 days for public comments.

Agency: U.S. Census Bureau, Department of Commerce.

Title: Building Permits Survey Program.

OMB Control Number: 0607-0094.

Form Number(s): C-404, C-411.

Type of Request: Regular submission, Request for a Revision of a Currently Approved Collection.

Number of Respondents: C-404—19,842; C-411—3,150.

Average Hours per Response: C-404—9 minutes; C-411—15 minutes.

Burden Hours: C-404—17,229; C-411—788.

Needs and Uses: The Census Bureau is requesting a revision of the current Office of Management and Budget clearance for the surveys known as the Survey of Residential Building or Zoning Permit Systems (C-411) and the Report of Building or Zoning Permits Issued for New Privately-Owned Housing Units (C-404) also known as BPS. The C-411 and the C-404 are related collections sharing the same universe called the Active Governments File (AGF) universe. The C-411 is utilized to update the permit issuing status of all jurisdictions in the AGF. The C-404 is utilized to collect both monthly and annual data on the totals of new housing unit permits issued. These two surveys, currently cleared separately under control numbers 0607-0350 and 0607-0094, respectively, will therefore be combined under one control number and will be collectively called the Building Permits Survey Program.

The Census Bureau produces statistics used to monitor activity in the large and dynamic construction industry. Given the importance of this industry, several of the statistical series have been designated by the Office of Management and Budget as Principal Economic Indicators. These statistics help state and local governments and the federal government, as well as private industry, to analyze this important sector of the economy.

The BPS, and the Survey of Housing Starts, Sales, and Completions (OMB number 0607-0110), also known as Survey of Construction (SOC) provide widely used measures of construction activity, including the principal economic indicators, New Residential Construction and New Home Sales. Data from the BPS and SOC are used by the Bureau of Economic Analysis (BEA) in the calculation of estimates of the Residential Fixed Investment portion of the Nation's Gross Domestic Product (GDP). In addition, data from the BPS are used by the Census Bureau in the calculation of annual population estimates; these estimates are widely used by government agencies to allocate funding and other resources to local governments.

The key estimates from the C-404 are the numbers of new housing units authorized by building permits; data are also collected on the valuation of the housing units. Form C-404 specifically collects information on changes to the geographic coverage of the permit-issuing place, the number and valuation of new residential housing units authorized by building permits, and additional information on residential permits valued at $2 million or more, including, but not limited to, site address and type of building. The form is titled “Report of Building or Zoning Permits Issued for New Privately-Owned Housing Units”.

Two Principal Economic Indicators are directly dependent on the key estimates from the BPS. For New Residential Construction (which includes Housing Units Authorized by Building Permits, Housing Starts, and Housing Completions), form C-404 is used to collect the estimate for Housing Units Authorized by Building Permits. For New Residential Construction and Sales, the number of housing units authorized by building permits is a key component utilized in the estimation of housing units started, completed, and sold.

Beginning January 2022, the U.S. Census Bureau changed the methodology for the tabulation of the Building Permit Survey. The methodology changed from a representative sample to a cutoff sample based on recent permit activity by jurisdiction. Published data from the survey can be found on the Census Bureau's website at www.census.gov/permits.

The Census Bureau primarily collects these data through the Centurion internet Reporting System, by mail using the Form C-404 or by telephone. Some data are also collected via receipt of proprietary electronic files or mailed printouts for jurisdictions who have established reporting arrangements which allow them to submit their responses using their own file format.

The Census Bureau uses Form C-404 to collect data that provides estimates of the number and valuation of new residential housing units authorized by building permits. There are roughly 20,000 permit issuing jurisdictions in the United States. Slightly less than one-half of those permit offices are requested to report monthly. The remaining offices are surveyed annually. We use the data, which is a component of The Conference Board Leading Economic Index, to estimate the number of housing units authorized, started, completed, and sold (single-family only). In addition, the Census Bureau uses the detailed geographic data in the development of annual population estimates; those population estimates are used by government agencies to allocate funding and other resources to local areas, inform policy, and aid in city planning. Policymakers, planners, businesses, and others use the detailed geographic data to monitor growth and plan for local services, and to develop production and marketing plans. The BPS is the only source of statistics on residential construction for states, counties, and smaller geographic areas. Since building permits are public records, we can release data for individual jurisdictions, and annual data are published for every permit-issuing jurisdiction.

The Census Bureau uses Form C-411 to obtain information from state and local building permit officials needed for updating the universe of permit-issuing places, which serves as the sampling frame for the BPS and the SOC. The accuracy of the Census Bureau statistics regarding the amount of construction authorized depends on data supplied by building and zoning officials throughout the country.

The questions on Form C-411 pertain to the legal requirements for issuing building or zoning permits in local jurisdictions. Information is obtained on such items as geographic coverage and types of construction for which permits are issued.

One of three variants of Form C-411 is sent to a jurisdiction when the Census Bureau needs to verify whether a new permit system has been established or an existing one has changed. This is based on the length of time since the jurisdiction last verified their permit issuing status, or on information the Census Bureau obtains from a variety of sources including survey respondents, regional planning councils, and data from the Census Bureau's Geography Division on newly incorporated jurisdictions. While the C-411 was previously a mailed paper form, the Census Bureau plans to add this collection to the standard online collection instrument (Centurion) in 2024.

There are three versions of the form:

• C-411(V) for verification of coverage for jurisdictions with existing permit systems,

• C-411(M) for municipalities where a new permit system may have been established,

• C-411(C) for counties where new permit systems may have been established.

Prior to 2022, the universe of permit issuing places was updated every 10 years. In 2012 and every ten years prior, we mailed the survey to approximately 20,000 jurisdictions that were designated in our records as non-permit issuing jurisdictions, or permit issuing jurisdictions that needed verification of coverage. In processing the 2012 survey, it was determined that it was too burdensome to the Census Bureau's staff to process all 20,000 jurisdictions in the same year. As a result, the process was spread out into 5-year intervals, starting with the mailing in 2017. In 2017, we mailed 3,500 priority jurisdictions of the potential 20,000, with the intent of mailing another priority group in 2022 to complete the 10-year collection cycle. The planned 2022 mailing was deferred. Beginning January 2023, we began updating the universe annually and as a result, we can now incorporate more frequent updates to non-permit issuing jurisdictions. Beginning in 2024 we expect to attempt to collect information from 3,150 jurisdictions annually using either the C-411(C) or C-411(M) regarding the existence of new permit-issuing systems, or to resolve coverage questions or issues concerning existing permit-issuing systems using the C-411(V). This will allow us to attempt collection on all 20,000 jurisdictions approximately every seven years, on a rotating basis.

Based on previous collections, we anticipate approximately a 50% response rate to the mailed C-411 forms. This will be supplemented with existing known information from the C-404 monthly and annual collection, individual follow-ups with jurisdictions by email or phone, and publicly available information to maintain coverage for the universe of permit issuing places. We anticipate having accurate and up to date coverage for over 85% of the annually targeted jurisdictions as a result of these combined operations.

Failure to maintain the universe of permit-issuing places would result in deficient samples and inaccurate statistics. This in turn jeopardizes the accuracy of the Census Bureau's construction-related Principal Federal Economic Indicators. These indicators are closely monitored by the Board of Governors of the Federal Reserve System and other economic policy makers because of the sensitivity of the housing industry to changes in interest rates.

Frequency: C-404—Monthly and annually; C-411—Annually.

Respondent's Obligation: Voluntary.

Legal Authority: Title 13 U.S.C., Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0094.

Sheleen Dumas,
Department PRA Clearance Officer, Office of the Under Secretary for Economic Affairs, Commerce Department.

[FR Doc. 2024-02688 Filed 2-8-24; 8:45 am]

BILLING CODE 3510-07-P